INTERNATIONAL TRADE COMMISSION

[Investigation No. 337-TA-924]

Certain Light Reflectors and Components, Packaging, and Related Advertising Thereof; Notice of Commission Determination Not To Review Initial Determinations Granting Motions To Terminate the Investigation as to the Remaining Respondents; Termination of the Investigation in Its Entirety

AGENCY: U.S. International Trade Commission.

ACTION: Notice.

SUMMARY: Notice is hereby given that the U.S. International Trade Commission has determined not to review: (1) An initial determination (“ID”) (Order No. 17) issued by the presiding administrative law judge (“ALJ”) on January 22, 2015, granting a motion to terminate the investigation as to respondents Sinowell (Shanghai) Co. Ltd. and Sinohydro Ltd. (collectively, “Sinowell”), based on a settlement agreement; and (2) an ID (Order No. 18) issued by the ALJ on January 27, 2015, granting a motion to terminate the investigation as to the remaining respondents based on withdrawal of the amended complaint.

FOR FURTHER INFORMATION CONTACT: Cathy Chen, Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 12, 2014, based on a complaint filed on June 20, 2014, amended on July 11, 2014, and supplemented on July 18, 2014, on behalf of Sunlight Supply, Inc. of Vancouver, Washington and IP Holdings, LLC of Vancouver, Washington (collectively, “Sunlight”). 79 FR 47156 (Aug. 12, 2014). The amended complaint alleged violations of Section 337 of the Tariff Act of 1930, as amended, 19 U.S.C. 1337, in the sale for importation, importation, and sale within the United States after importation of certain light reflectors and components, packaging, and related advertising thereof by reason of infringement of certain claims of U.S. Patent Nos. 7,641,367; D634,469; D644,185; D545,485; and by reason of infringement of U.S. Trademark Registration Nos. 3,871,765; and 3,262,059. The amended complaint also alleges that an industry in the United States exists as required by subsection (a)(2) of section 337. The amended complaint further alleges violations of section 337 based upon the importation into the United States, or in the sale of, certain light reflectors and components, packaging, and related advertising thereof by reason of false advertising, the threat or effect of which is to destroy or substantially injure an industry in the United States. The Commission's notice of investigation named numerous respondents including Sinowell. See 79 FR 47156-57. The Office of Unfair Import Investigations was named as a party to the investigation. Id. at 47157.

On December 16, 2014, the Commission determined not to review an ID (Order No. 12) granting a motion to terminate the investigation as to respondents The Hydro Source II, Inc.; Bizright, LLC; and Silversun, Inc., based upon settlement agreements.

On December 16, 2014, Sunlight moved to terminate the investigation as to Sinowell based upon a settlement agreement between Sunlight and Sinowell. That same day, Sunlight also moved to terminate the investigation as to the remaining respondents Groco Enterprises, LLC; Good Nature Garden Supply; Aqua Serene, Inc.; Aurora Innovations, Inc.; Big Daddy Garden Supply, Inc.; Insun, LLC; Lumz'N Blooms, Ltd. Corp; ParluxAmerica LLP; and Zimbali Group, Inc., based on withdrawal of the amended complaint as to these respondents. Sunlight asserted that there are no agreements, written or oral, express or implied between the parties concerning the subject matter of this investigation, other than the confidential settlement agreement between Sunlight and Sinowell. Sunlight also asserted that granting the motions is in the public interest and will conserve the resources of the Commission. The Commission's Investigative Attorney filed responses in support of the motions.

On January 22, 2015, the ALJ issued an ID (Order No. 17), granting the motion to terminate the investigation as to Sinowell. The ALJ found that the settlement agreement appears to resolve the dispute between Sunlight and Sinowell, and that granting the motion would not adversely affect the public interest factors. No petitions for review were filed.

On January 27, 2015, the ALJ issued an ID (Order No. 18), granting the motion to terminate the investigation as to the remaining respondents. The ALJ found that no extraordinary circumstances exist that would prevent the requested termination of the remaining respondents from the investigation. The ALJ also found that the parties have complied with the requirements of Rule 210.21(a). No petitions for review were filed.

The Commission has determined not to review the two subject IDs.

The authority for the Commission's determination is contained in section 337 of the Tariff Act of 1930, as amended (19 U.S.C. 1337), and in section 210 of the Commission's Rules of Practice and Procedure (19 CFR part 210).

By order of the Commission.
Issued: February 23, 2015.
William R. Bishop,
Supervisory Hearings and Information Officer.

[FR Doc. 2015-04089 Filed 2-26-15; 8:45 am]

BILLING CODE 7020-02-P